DEPARTMENT OF ENERGY

Federal Energy Regulatory Commission

[Docket Nos. CP20-50-000; CP20-51-000]

Tennessee Gas Pipeline Company, LLC, Southern Natural Gas Company, LLC; Notice of Revised Schedule for Environmental Review of the Evangeline Pass Expansion Project

This notice identifies the Federal Energy Regulatory Commission staff's revised schedule for the completion of the environmental assessment (EA) for Tennessee Gas Pipeline Company LLC's (Tennessee) and Southern Natural Gas Company LLC's (SNG) Evangeline Pass Expansion Project. The first notice of schedule, issued on April 3, 2020, identified July 27, 2020 as the EA issuance date. On April 13, 2020 and June 12, 2020, FERC staff requested additional environmental information to assist in its EA analysis regarding pile driving and associated noise and vibration impacts on aquatic species, including essential fish habitat and threatened and endangered species; floodplain development; and horizontal directional drilling. Tennessee filed a portion of the requested information on June 30, 2020 and stated that the additional information would be filed on July 14, 2020. To provide appropriate time to review and complete the analysis of the necessary supplemental information, Commission staff has revised the schedule for issuance of the EA, as described below.

Schedule for Environmental Review

Issuance of EA—August 24, 2020

90-day Federal Authorization Decision Deadline—November 23, 2020

If a schedule change becomes necessary, additional notice will be provided so that the relevant agencies are kept informed of the project's progress.

Additional Information

In order to receive notification of the issuance of the EA and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the project is available from the Commission's Office of External Affairs at (866) 208-FERC or on the FERC website (www.ferc.gov). Using the eLibrary link, enter the “Docket Number” excluding the last three digits (i.e., CP20-50 or CP20-51), select a date range, and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: July 9, 2020.
Kimberly D. Bose,
Secretary.

[FR Doc. 2020-15266 Filed 7-14-20; 8:45 am]

BILLING CODE 6717-01-P